DEPARTMENT OF THE INTERIOR

National Park Service

Notice of Inventory Completion: Warren Anatomical Museum, Harvard University, Boston, MA

AGENCY: National Park Service, Interior.

ACTION: Notice.

Notice is here given in accordance with the Native American Graves Protection and Repatriation Act (NAGPRA), 25 U.S.C. 3003, of the completion of an inventory of human remains in the possession and control of Warren Anatomical Museum, Harvard University, Boston, MA. The human remains were removed from the Island of Hawaii, HI.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Peabody Museum of Archaeology and Ethnology and Warren Anatomical Museum professional staff in consultation with representatives of the Hawaii Island Burial Council, Hui Malama I Na Kupuna O Hawai'i Nei, Oahu Island Burial Council, and the Office of Hawaiian Affairs.

At an unknown date, human remains representing a minimum of six individuals were removed from the Island of Hawaii, HI, by J.W. Whitney. The human remains were purchased by the Harvard Dental School Faculty for the Harvard Dental School Museum in 1893. Between 1936 and 1968, the human remains were transferred to the Warren Anatomical Museum. No known individuals were identified. No associated funerary objects are present.

Osteological characteristics indicate that the human remains are Native American. Museum documentation states that these individuals were recovered from “lava caves” on the Island of Hawaii. Anthropological and historic information indicates that cave interments are consistent with traditional Native Hawaiian mortuary practices. In addition, archeological and historic documentation combined with oral traditions support that the human remains are from an area considered to be part of the aboriginal homelands of ancestral Native Hawaiians. Present-day groups that represent Native Hawaiians for the Island of Hawaii are the Hawaii Island Burial Council, Hui Malama I Na Kupuna O Hawai'i Nei, and the Office of Hawaiian Affairs.

Officials of the Peabody Museum of Archaeology and Ethnology and Warren Anatomical Museum have determined that, pursuant to 25 U.S.C. 3001 (9-10), the human remains described above represent the physical remains of six individuals of Native American ancestry. Officials of the Peabody Museum of Archaeology and Ethnology and Warren Anatomical Museum also have determined that, pursuant to 25 U.S.C. 3001 (2), there is a relationship of shared group identity that can be reasonably traced between the Native American human remains and the Hawaii Island Burial Council, Hui Malama I Na Kupuna O Hawai'i Nei, and the Office of Hawaiian Affairs.

Representatives of any other Indian tribe or Native Hawaiian Organization that believes itself to be culturally affiliated with the human remains should contact Patricia Capone, Repatriation Coordinator, Peabody Museum of Archaeology and Ethnology, Harvard University, 11 Divinity Ave., Cambridge, MA 02138, telephone (617) 496-3702, before June 8, 2009. Repatriation of the human remains to the Hawaii Island Burial Council, Hui Malama I Na Kupuna O Hawai'i Nei, and the Office of Hawaiian Affairs may proceed after that date if no additional claimants come forward.

The Peabody Museum of Archaeology and Ethnology and Warren Anatomical Museum are responsible for notifying the Hawaii Island Burial Council, Hui Malama I Na Kupuna O Hawai'i Nei, Oahu Island Burial Council, and the Office of Hawaiian Affairs that this notice has been published.

Dated: April 28, 2009.
Sherry Hutt,
Manager, National NAGPRA Program.

[FR Doc. E9-10594 Filed 5-6-09; 8:45 am]

BILLING CODE 4312-50-S